Title 3—

The President

Proclamation 9706 of March 16, 2018

National Poison Prevention Week, 2018

By the President of the United States of America

A Proclamation

Poisoning remains the leading cause of injury death in the United States. By taking the proper precautions and preparing for emergency situations, however, we can ensure our families and our communities avoid poisoning tragedies. During National Poison Prevention Week, we strive to reduce the frequency of poisoning deaths and educate ourselves about how to prevent accidental poisoning.

Since 2000, the rate of accidental drug-poisoning deaths has more than quadrupled. Accidental poisoning due to drug overdose has taken immense tolls on families all across the country, and synthetic opioids continue to push the death count higher. In 2016 alone, we lost 116 people per day from opioid-related drug overdoses.

To address this devastating epidemic, I have mobilized my entire Administration to combat drug addiction and opioid abuse. In October 2017, my Administration declared the opioid addiction crisis a national public health emergency. My 2018 Budget proposes $3 billion in new funding this year to combat the opioid epidemic, including through providing additional support for mental health initiatives.

My Administration has also led multiple national “Take Back Day” events, during which Americans have had the opportunity to safely dispose of unneeded prescription medications, preventing them from falling into the wrong hands. During the most recent event last October, the Drug Enforcement Administration collected 456 tons of prescription drugs for disposal at more than 5,300 collection sites. We will continue to champion these initiatives, which help prevent future tragedies from accidental poisonings and drug overdoses.

This week, and every week, we warn all Americans about unintended exposure to poisons, so that we can reduce risks and prevent injuries and lost lives. We all can do our part by ensuring the products we bring into our homes, including medications, cleaning supplies, laundry detergents, small batteries, and other chemicals, are stored out of sight and out of reach of children. Accidental poisonings are preventable, and we must recommit ourselves to taking the necessary actions to protect our families, and improve the health, well-being, and prosperity of our Nation as a whole.

To encourage Americans to learn more about the dangers of unintentional poisonings and to take appropriate preventative measures, on September 26, 1961, the Congress, by joint resolution (75 Stat. 681), authorized and requested the President to issue a proclamation designating the third week of March each year as “National Poison Prevention Week.”

NOW, THEREFORE, I, DONALD J. TRUMP, President of the United States of America, do hereby proclaim March 18, 2018, through March 24, 2018, to be National Poison Prevention Week. I call upon all Americans to observe this week by taking actions to safeguard their families from poisonous products, chemicals, and medicines, and drugs found in our homes, and to raise awareness of these dangers in order to prevent accidental injuries and deaths.

IN WITNESS WHEREOF, I have hereunto set my hand this sixteenth day of March, in the year of our Lord two thousand eighteen, and of the Independence of the United States of America the two hundred and forty-second.

[FR Doc. 2018-05875

Filed 3-20-18; 8:45 am]

Billing code 3295-F8-P